NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Extension.

2. The title of the information collection:

—DOE/NRC Forms 741 & 741A—Nuclear Material Transaction Report;

—DOE/NRC Form 740M—Concise Note;

—NUREG/BR-0006 Revision 4—“Instructions for Completing Nuclear Material Transfer Reports DOE/NRC Forms 741, 741A, and 740M.”

3. The form number if applicable:

—NRC/DOE Forms 741/741A: 3150-0003; and

—NRC/DOE Form 740M: 3150-0057.

4. How often the collection is required:

—DOE/NRC Forms 741/741A: As occasioned by special nuclear material or source material transfers, receipts, or inventory changes that meet certain criteria. Licensees range from not submitting any forms to submitting over 5,000 forms in a year.

—DOE/NRC Form 740M: As necessary to inform the US or the International Atomic Energy Agency (IAEA) of any qualifying statement or exception to any of the data contained in any of the other reporting forms required under the US/IAEA Safeguards Agreement. On average, 15 licensees submit about 10 forms each per year—150 forms annually.

5. Who will be required or asked to report: Persons licensed to possess specified quantities of special nuclear material or source material, and licensees of facilities on the US eligible list who have been notified in writing by the Commission that they are subject to Part 75.

6. An estimate of the number of responses:

—DOE/NRC Forms 741/741A: 36,500;

—DOE/NRC Form 740M: 150.

7. An estimate of the number of annual respondents:

—DOE/NRC Forms 741/741A: 1,200;

—DOE/NRC Form 740M: 15.

8. The number of hours needed annually to complete the requirement or request:

—DOE/NRC Forms 741/741A: 27,375 hours for NRC and Agreement State licensees (.75 hour per response with an average of approximately 22.8 hours per respondent for 1,200 respondents);

—DOE/NRC Form 740M: 113 hours (.75 hour per response with an average of approximately 7.5 hours per respondent for 15 respondents).

9. An indication of whether Section 3507(d), Pub. L. 104-13 applies: NA.

10. Abstract: NRC and Agreement State licensees are required to make inventory and accounting reports on DOE/NRC Forms 741/741A for certain source or special nuclear material inventory changes, for transfers or receipts of special nuclear material, or for transfer or receipt of 1 kilogram or more of source material. Licensees affected by Part 75 and related sections of Parts 40, 50, 70, and 150 are required to submit DOE/NRC Form 740M to inform the US or the IAEA of any qualifying statement or exception to any of the data contained in any of the other reporting forms required under the U.S./IAEA Safeguards Agreement. The use of Forms 740M, 741, and 741A, together with NUREG/BR-0006 Revision 4, the instructions for completing the forms, enables NRC to collect, retrieve, analyze as necessary, and submit the data to IAEA to fulfill its reporting responsibilities.

A copy of the final supporting statement may be viewed free of charge at the NRC Public Document Room located at One White Flint North, 11555 Rockville Pike, Rockville, MD. OMB clearance requests are available at the NRC World Wide Web site, http://www.nrc.gov/NRC/PUBLIC/OMB/index.html. The document will be available on the NRC home page site for 60 days after the signature date of this notice.

Comments and questions should be directed to the OMB reviewer listed below by April 4, 2002. Comments received after this date will be considered if it is practical to do so, but assurance of consideration cannot be given to comments received after this date.

Bryon Allen, Office of Information and Regulatory Affairs (3150-0003 & -0057), NEOB-10202, Office of Management, Washington, DC 20503.

Comments can also be submitted by telephone at (202) 395-3087.

The NRC Clearance Officer is Brenda Jo. Shelton, 301-415-7233.

Dated at Rockville, Maryland, this 27th day of February 2002.
For the Nuclear Regulatory Commission.
Brenda Jo. Shelton,
NRC Clearance Officer, Office of the Chief Information Officer.

[FR Doc. 02-5178 Filed 3-4-02; 8:45 am]

BILLING CODE 7590-01-P